FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 25, 2016.

A. Federal Reserve Bank of Atlanta (Chapelle Davis, Assistant Vice President) 1000 Peachtree Street, NE., Atlanta, Georgia 30309. Comments can also be sent electronically to Applications.Comments@atl.frb.org:

1. Andrew Charles Heaner, Atlanta, Georgia; to acquire additional voting shares of Heritage First Bancshares, Inc., and thereby indirectly acquire additional voting shares of Heritage First Bank, both in Rome, Georgia.

B. Federal Reserve Bank of Kansas City (Dennis Denney, Assistant Vice President) 1 Memorial Drive, Kansas City, Missouri 64198-0001:

1. The Margaret March Brownlee Trust, Margaret M. Brownlee, trustee, Orlando, Florida; the Paula March Romanovsky Trust, Paula March Romanovsky, trustee, San Francisco, California; the Crotty Brownlee Family Charitable Remainder Trust, Margaret M. Brownlee, trustee, Orlando, Florida; the Paula March Romanovsky Trust, Paula March Romanovsky, trustee, San Francisco, California; and the Crotty Brownlee Family Charitable Remainder Trust, Margaret M. Brownlee, trustee, Orlando, Florida; all as members of the March family group; to retain voting shares of Bank Management, Inc., and thereby indirectly retain voting shares of FirstBank of Nebraska, both in Wahoo, Nebraska.

Board of Governors of the Federal Reserve System, April 5, 2016.
Michael J. Lewandowski,
Associate Secretary of the Board.

[FR Doc. 2016-08104 Filed 4-7-16; 8:45 am]

BILLING CODE 6210-01-P